SECURITIES AND EXCHANGE COMMISSION

[Release No. 34-65689A; File No. SR-Phlx-2011-142]

Self-Regulatory Organizations; NASDAQ OMX PHLX LLC; Notice of Filing of Proposed Rule Change To Modify Its Co-Location Fee Schedule Regarding Low Latency Network Connections; Correction

AGENCY: Securities And Exchange Commission.

ACTION: Notice; correction.

SUMMARY: The Securities and Exchange Commission published a document in the Federal Register of November 10, 2011 concerning a Proposed Rule Change by NASDAQ OMX PHLX LLC to Modify its Co-Location Fee Schedule Regarding Low Latency Network Connections; The document contained a typographical error in the heading.

FOR FURTHER INFORMATION CONTACT: Daniel T. Gien, Special Counsel, Division of Trading and Markets, Securities and Exchange Commission, 100 F Street NE., Washington, DC 20549, (202) 551-5747.

Correction:

In the Federal Register of November 10, 2011, in FR Doc. 2011-29110, on page 70187, correct the heading to read as noted above.

Dated: December 9, 2011.
Kevin M. O'Neill,
Deputy Secretary.

[FR Doc. 2011-32132 Filed 12-14-11; 8:45 am]

BILLING CODE 8011-01-P